CORPORATION FOR NATIONAL AND COMMUNITY SERVICE

Submission for OMB Review; Comment Request

AGENCY: Corporation for National and Community Service.

ACTION: 30-day notice

SUMMARY: The Corporation for National and Community Service (hereinafter the “Corporation”), has submitted the three following public information collection requests (ICRs) to the Office of Management and Budget (OMB) for review and approval in accordance with the Paperwork Reduction Act of 1995 (Pub. L. 104-13), (44 U.S.C. Chapter 35). Copies of these individual ICRs (one for Senior Corps, one for AmeriCorps and one for Learn and Serve America), with applicable supporting documentation, may be obtained by calling the Corporation for National and Community Service, Ms. Shannon Maynard at (202) 606-5000, ext. 428. Individuals who use a telecommunications device for the deaf (TTY-TDD) may call (202) 565-2799 between 8:30 a.m. and 5 p.m. Eastern time, Monday through Friday.

ADDRESSES: Comments may be submitted, identified by the title of the information collection activity, to the Office of Information and Regulatory Affairs, Attn: Ms. Katherine Astrich, OMB Desk Officer for the Corporation for National and Community Service, by any of the following two methods within 30 days from the date of this publication in the Federal Register:

(1) By fax to: (202) 395-6974, Attention: Ms. Katherine Astrich, OMB Desk Officer for the Corporation for National and Community Service; and

(2) Electronically by e-mail to: Katherine_T._Astrich@omb.eop.gov.

The initial 60-day Federal Register notice for these ICRs was published on April 2, 2004. The comment period for this notice has elapsed with no comments received, and the Corporation has received emergency approval from OMB.

SUPPLEMENTARY INFORMATION: The OMB is particularly interested in comments which:

• Evaluate whether the proposed collection of information in necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology e.g., permitting electronic submissions of responses.

Type of Review: Currently approved through emergency clearance.

Agency: Corporation for National and Community Service.

Title: Spirit of Service Awards Nomination Guidelines and Appreciation—Senior Corps.

OMB Number: 3045—0091.

Agency Number: None.

Affected Public: Individuals or households, not-for-profit institutions, and State, local or tribal government.

Total Respondents: 200.

Frequency: One time.

Average Time Per Response: 3 hours.

Estimated Total Burden Hours: 600 hours.

Total Burden Cost (capital/startup): $0.

Total Burden Cost (operating/maintenance): $0.

Part II

Type of Review: Current approved through emergency clearance.

Agency: Corporation for National and Community Service.

Title: Spirit of Service Awards Nomination Guidelines and Application—AmeriCorps.

OMB Number: 3045-0092.

Agency Number: None.

Affected Public: Individuals or households, not-for-profit institutions, and State, local or tribal government.

Total Respondents: 200.

Frequency: One time.

Average Time Per Response: 3 hours.

Estimated Total Burden Hours: 600 hours.

Total Burden Cost (capital/startup): $0.

Total Burden Cost (operating/maintenance): $0.

Part III

Type of Review: Currently approved through emergency clearance.

Agency: Corporation for National and Community Service.

Title: Spirit of Service Awards Nomination Guidelines and Application—Learn and Serve America.

OMB Number: 3045-0093.

Agency Number: None.

Affected Public: Individuals or households, not-for-profit institutions, and State, local or tribal government.

Total Respondents: 200.

Frequency: One-time.

Average Time Per Response: 3 hours.

Estimated Total Burden Hours: 600 hours.

Total Burden Cost (capital/startup): $0.

Total Burden Cost (operating/maintenance): $0.

Description: The Spirit of Service Awards enable the Corporation to recognize exceptional organizations and program participants from each of the Corporation's three programs, Senior Corps, AmeriCorps, and Learn and Serve America. In 2004, the Corporation plans to establish specific nomination guidelines for each of the programs and develop a formal nomination process, which involves voluntary information collection from non-government individuals.

Prior to 2003, AmeriCorps recognized its outstanding members annually through the All-AmeriCorps Awards, which were initiated in 1999 and presented by President Clinton as part of the 5th anniversary celebration of the program. Senior Corps had recognized its outstanding projects and volunteers at its own national conference, and Learn and Serve America recognized exemplary programs and participants through its Leaders School selection and the President's Student Service Awards.

Dated: August 26, 2004.
Sandy Scott,
Acting Director, Office of Public Affairs.

[FR Doc. 04-19902 Filed 8-31-04; 8:45 am]

BILLING CODE 6050-$$-M